SECURITIES AND EXCHANGE COMMISSION

Sunshine Act Meeting Notice

Federal Register Citation of Previous Announcement: 74 FR 66178, December 14, 2009.

Status: Closed Meeting.

Place: 100 F Street, NE., Washington, DC.

Date and Time of Previously Announced Meeting: Thursday, December 17, 2009 at 2 p.m.

Change in the Meeting: Additional Item.

The following item was added to the Thursday, December 17, 2009 Closed Meeting agenda:

[A] matter involving confidential, privileged, commercial, or financial information.

Commissioner Aguilar, as duty officer, determined that Commission business required the above change.

At times, changes in Commission priorities require alterations in the scheduling of meeting items. For further information and to ascertain what, if any, matters have been added, deleted or postponed, please contact the Office of the Secretary at (202) 551-5400.

Dated: December 18, 2009.
Elizabeth M. Murphy,
Secretary.

[FR Doc. E9-30601 Filed 12-22-09; 11:15 am]

BILLING CODE P